DEPARTMENT OF TRANSPORTATION

Federal Aviation Administration

14 CFR Part 71

[FAA Docket No. FAA-2003-17383; Airspace Docket No. 04-AWA-01]

RIN 2120-AA66

Correction to Modification of the Houston Class B Airspace Area; TX

AGENCY: Federal Aviation Administration (FAA), DOT.

ACTION: Final rule, correction.

SUMMARY: This action corrects a final rule published in the Federal Register on September 17, 2003. In that rule, inadvertent errors were made in the legal description of the Houston, TX, Class B airspace area. This action corrects those errors.

EFFECTIVE DATE: 0901 UTC, September 30, 2004.

FOR FURTHER INFORMATION CONTACT: Steve Rohring, Airspace and Rules, Office of System Operations and Safety, ATO-R, Federal Aviation Administration, 800 Independence Avenue, SW., Washington, DC 20591; telephone: (202) 267-8783.

SUPPLEMENTARY INFORMATION:

History

On September 17, 2003, the FAA modified the Houston Class B airspace area (FAA Docket No. FAA-2003-14402/Airspace Docket No. 01-AWA-4; 68 FR 54329). That action contained several inadvertent errors in the legal description for the airspace area. Specifically, some areas were not the same as presented in the public meetings or studied by the ad hoc committee and were not sufficient to contain turbojet operations within the Houston Class B Airspace Area during the conduct of triple simultaneous operations. Subsequent to the publication of the final rule, the ad hoc committee met regarding the erroneous descriptions and agreed to corrections. This action corrects those inadvertent errors.

Corrections to Final Rule

Accordingly, pursuant to the authority delegated to me, the legal description for the Houston Class B airspace area, as published in the Federal Register on September 17, 2003 (68 FR 54329), and incorporated in 14 CFR 71.1, is corrected as follows:

PART 71—DESIGNATION OF CLASS A, B, C, D, AND E AIRSPACE AREAS; AIR TRAFFIC SERVICE ROUTES; AND REPORTING POINTS

§ 71.1 [Corrected]

On page 54329, correct the legal description of the Houston Class B Airspace, to read as follows:

Paragraph 3000—Subpart B—Class B Airspace

* * * * *

ASW TX B Houston, TX (Revised)

George Bush Intercontinental Airport (IAH)(Primary Airport)

(Lat. 29°59′04″ N., long. 95°20′29″ W.)

William P. Hobby Airport (HOU) (Secondary Airport)

(Lat. 29°38′44″ N., long. 95°16′44″ W.)

Ellington Field (EFD)

(Lat. 29°36′26″ N., long. 95°09′32″ W.)

Humble VORTAC (IAH)

(Lat. 29°57′25″ N., long. 95°20′45″ W.)

Point of Origin

(Lat. 29°39′01″ N., long. 95°16′45″ W.)

Boundaries

Area A. That airspace extending upward from the surface to and including 10,000 feet MSL bounded by a line beginning at the intersection of the Humble VORTAC 8-mile DME arc and the 090° radial; thence clockwise along the Humble VORTAC 8-mile DME arc to the Humble VORTAC 069° radial; thence east along the Humble VORTAC 069° radial to the 10-mile DME arc of Humble VORTAC; thence clockwise along the Humble VORTAC 10-mile DME arc to the Humble VORTAC 090° radial; thence west to the point of beginning; and that airspace bounded by a line beginning at lat. 29°45′37″ N., long. 95°21′58″ W.; to lat. 29°45′46″ N., long. 95°11′47″ W.; thence clockwise along the 8-mile arc from the Point of Origin to the 056° bearing from the Point of Origin; thence southwest along the 056° bearing to the 5.1-mile fix from the Point of Origin, thence direct to the Point of Origin 131° bearing/5.8 mile fix from the Point of Origin; thence southeast along the 131° bearing from the Point of Origin to the 7-mile arc from the Point of Origin; thence clockwise on the 7-mile arc to the 156° bearing from the Point of Origin; thence north along the 156° bearing to the 6-mile fix from the Point of Origin; thence clockwise along the 6-mile arc to the 211° bearing from the Point of Origin; thence south along the 211° bearing from the Point of Origin to the 8-mile arc from the Point of Origin; thence clockwise on the 8-mile arc to the point of beginning.

Area B. That airspace extending upward from 2,000 feet MSL to and including 10,000 feet MSL bounded by a line beginning at the intersection of State Highway 59 (SH 59) and the 15-mile arc from the Point of Origin; thence counterclockwise along the 15-mile arc to State Road 6 (SR 6); thence southeast along SR 6 to the intersection of SR 6 and Farm Road 521 (FR 521); thence south along FR 521 to the intersection of FR 521 and the 15-mile arc from the Point of Origin; thence counterclockwise along the 15-mile arc to the 211° bearing from the Point of Origin; thence northeast along the 211° bearing to the 10-mile arc from the Point of Origin; thence counterclockwise along the 10-mile arc to the 156° bearing from the Point of Origin; thence southeast along the 156° bearing to the 15-mile arc from the Point of Origin; thence counterclockwise on the 15-mile arc to the intersection of the 15-mile arc and Interstate 10 (I-10); thence east on I-10 to the intersection of I-10 and the Humble VORTAC 20-mile DME arc; thence counterclockwise on the Humble VORTAC 20-mile DME arc to the intersection of the Humble VORTAC 20-mile DME arc and the Humble VORTAC 060° radial; thence west to the intersection of the Humble VORTAC 15-mile DME arc and Humble VORTAC 048° radial; thence counterclockwise along the Humble VORTAC 15-mile DME arc to the intersection of the Humble VORTAC 15-mile DME arc and the Humble VORTAC 312° radial; thence west to the intersection of the Humble VORTAC 20-mile DME arc and the Humble VORTAC 300° radial; thence counterclockwise on the Humble VORTAC 20-mile DME arc to the intersection of the Humble VORTAC 20-mile DME arc and the Humble VORTAC 250° radial; thence east to the intersection of the Humble VORTAC 243° radial and the Humble VORTAC 15-mile DME arc; thence counterclockwise along the Humble VORTAC 15-mile DME arc to lat. 29°43′40″ N., long. 95°27′40″ W.; thence southwest to and along SH 59 to the point of beginning, excluding Area A.

Area C. That airspace extending upward from 3,000 feet MSL to and including 10,000 feet MSL bounded by a line beginning at the intersection of SH 59 and the Humble VORTAC 20-mile DME arc; thence clockwise along the Humble VORTAC 20-mile DME arc to the intersection of the Humble VORTAC 20-mile DME arc and the Humble VORTAC 250° radial; thence west to the intersection of the Humble VORTAC 30-mile DME arc and the Humble VORTAC 257° radial; thence clockwise on the Humble VORTAC 30-mile DME arc to the intersection of the Humble VORTAC 30-mile DME arc and the Humble VORTAC 290° radial; thence east to the intersection of the Humble VORTAC 20-mile DME arc and the Humble VORTAC 300° radial; thence clockwise on the Humble VORTAC 20-mile DME arc to the intersection of the Humble VORTAC 20-mile DME arc and the Humble VORTAC 060° radial; thence east to the intersection of the Humble VORTAC 30-mile DME arc and the Humble VORTAC 070° radial; thence clockwise on the Humble VORTAC 30-mile DME arc to the intersection of the Humble VORTAC 30-mile DME arc and the Humble VORTAC 103° radial; thence west to the intersection of the Humble VORTAC 20-mile DME arc and the Humble VORTAC 110° radial; thence counterclockwise on the Humble VORTAC 20-mile DME arc to the intersection of the Humble VORTAC 20-mile DME arc and the Humble VORTAC 060° radial; thence west to the intersection of the Humble VORTAC 15-mile DME arc and the Humble VORTAC 048° radial; thence counterclockwise on the Humble VORTAC 15-mile DME arc to the intersection of the Humble VORTAC 15-mile DME arc and the Humble VORTAC 312° radial; thence west to the intersection of the Humble VORTAC 20-mile DME arc and the Humble VORTAC 300° radial; thence counterclockwise on the Humble VORTAC 20-mile DME arc to the intersection of the Humble VORTAC 20-mile DME arc and the Humble VORTAC 250°radial; thence east to the intersection of the Humble VORTAC 15-mile DME arc and the Humble VORTAC 243° radial; thence counterclockwise along the Humble VORTAC 15-mile DME arc to lat. 29°43′40″ N., long. 95°27′40″ W.; thence southwest to and along SH 59 to the point of beginning; and that airspace beginning at the intersection of the 15-mile arc and the 211° bearing from the Point of Origin; thence clockwise along the 15-mile arc to the intersection of the 15-mile arc and the 254° bearing from the Point of Origin; thence southwest to the intersection of the 20-mile arc and the 248° bearing from the Point of Origin; thence counterclockwise along the 20-mile arc from the Point of Origin to the intersection of the 20-mile arc and the 211° bearing from the Point of Origin; thence northeast along the 211° bearing from the Point of Origin to the intersection of the 10-mile arc and the 211° bearing from the Point of Origin; thence counterclockwise along the 10-mile arc to the intersection of the 10-mile arc and the 156° bearing from the Point of Origin; thence southeast along the 156° bearing to the 15-mile arc and 156° bearing from the Point of Origin; thence clockwise along the 15-mile arc from the Point of Origin to the point of beginning, excluding Areas A, B, D, and E.

Area D. That airspace extending upward from 4,000 feet MSL to and including 10,000 feet MSL bounded by a line beginning at the intersection of SH 59 and the Humble VORTAC 30-mile DME arc; thence clockwise along the Humble VORTAC 30-mile DME arc to the intersection of the Humble VORTAC 30-mile DME arc and the Humble VORTAC 257° radial; thence east to the intersection of the Humble VORTAC 20-mile DME arc and the Humble VORTAC 250° radial; thence counterclockwise on the Humble VORTAC 20-mile DME arc to the intersection of the Humble VORTAC 20-mile DME arc and SH 59; thence southwest to and along SH 59 to the intersection of the 15-mile arc from the Point of Origin and SH 59; thence counterclockwise on the 15-mile arc from the Point of Origin to the intersection of the 15-mile arc from the Point of Origin and the 254° bearing from the Point of Origin; thence southwest to the intersection of the 20-mile arc from the Point of Origin and the 248° bearing from the Point of Origin; thence clockwise on the 20-mile arc from the Point of Origin to the intersection of the 20-mile arc from the Point of Origin and SH 59; thence southwest along SH 59 to the point of beginning; and that airspace beginning at the intersection of the 211° bearing and the 20-mile arc from the Point of Origin; thence northeast to the intersection of the 15-mile arc from the Point of Origin and the 211° bearing from the Point of Origin; thence counterclockwise on the 15-mile arc from the Point of Origin to the intersection of the 15-mile arc from the Point of Origin and I-10; thence east along I-10 to the intersection of the Humble VORTAC 20-mile DME arc and I-10; thence counterclockwise on the Humble VORTAC 20-mile DME arc to the intersection of the Humble VORTAC 20-mile DME arc and the Humble VORTAC 110° radial; thence east to the intersection of the Humble VORTAC 30-mile DME arc and the Humble VORTAC 103° radial; thence clockwise on the Humble VORTAC 30-mile DME arc until the intersection of the Humble VORTAC 30-mile DME arc and the 20-mile arc from the Point of Origin; thence clockwise on the 20-mile arc from the Point of Origin to the intersection of the 20-mile arc from the Point of Origin and the 248° bearing from the Point of Origin; thence southwest to the intersection of the 25-mile arc from the Point of Origin and the 245° bearing from the Point of Origin; thence counterclockwise on the 25-mile arc from the Point of Origin to the intersection of the 25-mile arc from the Point of Origin and the 211° bearing from the Point of Origin; thence northeast on the 211° bearing from the Point of Origin to the point of beginning; and that airspace beginning at the intersection of the Humble VORTAC 20-mile DME arc and the Humble VORTAC 300° radial; thence west to the intersection of the Humble VORTAC 30-mile DME arc and the Humble VORTAC 290° radial; thence clockwise along the Humble VORTAC 30-mile DME arc to the intersection of the Humble VORTAC 30-mile DME arc and the Humble VORTAC 070° radial; thence west to the intersection of the Humble VORTAC 20-mile DME arc and the Humble VORTAC 060° radial; thence counterclockwise along the Humble VORTAC 20-mile DME arc to the point of beginning, excluding Areas B and C.

Area E. That airspace extending upward from 2,500 feet MSL to and including 10,000 feet MSL bounded by a line beginning at the intersection of the 15-mile arc from the Point of Origin and State Road 6 (SR 6); thence southeast along SR 6 to the intersection of SR 6 and Farm Road 521 (FR 521); thence south along FR 521 to the intersection of FR 521 and the 15-mile arc from the Point of Origin; thence clockwise along the 15-mile arc from the Point of Origin to the point of the beginning.

* * * * *

Issued in Washington, DC, on April 14, 2004.
Reginald C. Matthews,
Manager, Airspace and Rules.

[FR Doc. 04-9555 Filed 4-26-04; 8:45 am]

BILLING CODE 4910-13-P